DEPARTMENT OF ENERGY

Federal Energy Regulatory Commission

[CP02-65-000]

Panhandle Eastern Pipe Line Company; Notice of Request Under Blanket Authorization

(January 18, 2002)

Take notice that on January 14, 2002, Panhandle Eastern Pipe Line Company (Panhandle), P.O. Box 4967, Houston, Texas 77210-4967, filed in Docket No. CP02-65-000 a request pursuant to Sections 157.205 and 157.216 of the Commission's Regulations under the Natural Gas Act (18 CFR 157.205 and 157.216) for authorization to abandon by sale and transfer to Kokomo Gas & Fuel Company (Kokomo) a portion of Panhandle's piping downstream of Panhandle's Kokomo Meter Station, located in Tipton County, Indiana, under Panhandle's blanket certificate issued in Docket No. CP83-83-000 pursuant to Section 7 of the Natural Gas Act, all as more fully set forth in the request which is on file with the Commission and open to public inspection. This filing may be viewed on the Web at http://www.ferc.gov using the “RIMS” link, select “Docket#” from the RIMS Menu and follow the instructions (please call 202-208-2222 for assistance).

Panhandle proposes to transfer approximately 352 feet of certain pipeline segments and appurtenances constituting a portion of Panhandle's Tipton Lateral, Line No. 45-06-0001-0023, located in Tipton County, Indiana. Specifically, Panhandle proposes to transfer the last 352 feet of Line No. 45-06-0001-0023, which consists of approximately 64 feet of 16-inch outlet meter station header pipe, 243 feet of 12-inch, 37 feet of 16-inch, and 8 feet of 10-inch diameter pipelines. Panhandle indicates that these segments of the Tipton Lateral extend from the outlet side of Panhandle's Kokomo measuring station to the inlet side of Kokomo's facilities. Panhandle declares that currently, this portion of the lateral is used to deliver gas to Kokomo for its local distribution system. Panhandle states that Kokomo has indicated that its acquisition of the last 352 feet and appurtenances of the Tipton Lateral would provide better continuity for its distribution facilities and enhance the operation of its distribution system.

Panhandle avers that during the past twelve months, there have been three customers (NESI Energy Marketing L.L.C., Energy USA-TPC Corporation, and Northern Indiana Public Service Company) receiving firm service from Panhandle delivered at Panhandle's Kokomo Meter Station for further transportation on Kokomo's distribution system, and these three customers are all affiliated with Kokomo. Panhandle states that there are no other connections along the 352-foot segment of pipe. Panhandle asserts that since all transportation services which utilize these facilities are affiliated with Kokomo, the proposed abandonment will have no effect on the service Panhandle is providing to these customers through this short segment of pipe.

Panhandle states that Kokomo will acquire all rights, title, and interest in the last 352 feet of pipeline and appurtenances and incorporate the facilities as part of its distribution system.

Any questions regarding the prior notice request should be directed to William W. Grygar, Vice President of Rates and Regulatory Affairs , Panhandle Eastern Pipe Line Company, 5444 Westheimer Road, Houston, Texas 77056-5306, at (713) 989-7000.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to Section 7 of the Natural Gas Act. Comments and protests may be filed electronically via the internet in lieu of paper. See, 18 CFR 385.2001(a)(1)(iii) and the instructions on the Commission's Web site under the “e-Filing” link.

Linwood A. Watson, Jr.,
Acting Secretary.

[FR Doc. 02-1826 Filed 1-24-02; 8:45 am]

BILLING CODE 6717-01-P